FEDERAL EMERGENCY MANAGEMENT AGENCY

44 CFR Part 67

[Docket No. FEMA-7311]

Proposed Flood Elevation Determinations

AGENCY: Federal Emergency Management Agency, FEMA.

ACTION: Proposed rule.

SUMMARY: Technical information or comments are requested on the proposed base (1% annual chance) flood elevations and proposed base flood elevation modifications for the communities listed below. The base flood elevations are the basis for the floodplain management measures that the community is required either to adopt or to show evidence of being already in effect in order to qualify or remain qualified for participation in the National Flood Insurance Program (NFIP).

DATES: The comment period is ninety (90) days following the second publication of this proposed rule in a newspaper of local circulation in each community.

ADDRESSES: The proposed base flood elevations for each community are available for inspection at the office of the Chief Executive Officer of each community. The respective addresses are listed in the following table.

FOR FURTHER INFORMATION CONTACT: Matthew B. Miller, P.E., Chief, Hazards Study Branch, Mitigation Directorate, Federal Emergency Management Agency, 500 C Street SW., Washington, DC 20472; (202) 646-3461, or (email) matt.miller@fema.gov.

SUPPLEMENTARY INFORMATION: The Federal Emergency Management Agency (FEMA or Agency) proposes to make determinations of base flood elevations and modified base flood elevations for each community listed below, in accordance with section 110 of the Flood Disaster Protection Act of 1973, 42 U.S.C. 4104, and 44 CFR 67.4(a).

These proposed base flood and modified base flood elevations, together with the floodplain management criteria required by 44 CFR 60.3, are the minimum that are required. They should not be construed to mean that the community must change any existing ordinances that are more stringent in their floodplain management requirements. The community may at any time enact stricter requirements of its own, or pursuant to policies established by other Federal, state or regional entities. These proposed elevations are used to meet the floodplain management requirements of the NFIP and are also used to calculate the appropriate flood insurance premium rates for new buildings built after these elevations are made final, and for the contents in these buildings.

National Environmental Policy Act

This proposed rule is categorically excluded from the requirements of 44 CFR Part 10, Environmental Consideration. No environmental impact assessment has been prepared.

Regulatory Flexibility Act

The Associate Director, Mitigation Directorate, certifies that this proposed rule is exempt from the requirements of the Regulatory Flexibility Act because proposed or modified base flood elevations are required by the Flood Disaster Protection Act of 1973, 42 U.S.C. 4104, and are required to establish and maintain community eligibility in the National Flood Insurance Program. As a result, a regulatory flexibility analysis has not been prepared.

Regulatory Classification

This proposed rule is not a significant regulatory action under the criteria of section 3(f) of Executive Order 12866 of September 30, 1993, Regulatory Planning and Review, 58 FR 51735.

Executive Order 12612, Federalism

This proposed rule involves no policies that have federalism implications under Executive Order 12612, Federalism, dated October 26, 1987.

Executive Order 12778, Civil Justice Reform

This proposed rule meets the applicable standards of section 2(b)(2) of Executive Order 12778.

List of Subjects in 44 CFR Part 67

Administrative practice and procedure, Flood insurance, Reporting and recordkeeping requirements.

Accordingly, 44 CFR part 67 is proposed to be amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.4 [Amended]

2. The tables published under the authority of § 67.4 are proposed to be amended as follows:

State | City/town/county | Source of flooding | Location | #Depth in feet above ground. *Elevation in feet (NGVD): Existing | #Depth in feet above ground. *Elevation in feet (NGVD): Modified
Florida | Daytona Beach (City), Volusia County | Atlantic Ocean | Approximately 450 feet northeast of the intersection of Harvey Avenue and Ocean Avenue South | *11 | *10
|  |  | Approximately 300 feet east of the intersection of Hartford Avenue and Atlantic Avenue North | *9 | *13
|  | Intracoastal Waterway | Approximately 500 feet west of the intersection of Glenview Boulevard and Halifax Avenue North | *6 | *5
|  |  | Approximately 700 feet east of the intersection of San Juan Avenue and North Beach Street | *7 | *8
|  | B-19 Canal Tributary No. 7 | At confluence with B-19 Canal | *28 | *30
|  |  | Approximately 50 feet upstream of Beville Road/State Route 400 | *28 | *30
|  | B-19 Canal | Approximately 1,100 feet upstream of the confluence of B-19 Canal Tributary No. 3 with B-19 Canal | *28 | *29
|  |  | Approximately 100 feet upstream of State Route 400 | *28 | *30
|  | Tomoka River | Approximately 0.8 mile downstream of Eleventh Street | *13 | *14
|  |  | Approximately 400 feet downstream of Interstate 4 | *26 | *25
Maps available for inspection at the Daytona Beach Public Works Complex, Engineering Department, 950 Bellevue Avenue, Daytona Beach, Florida.
Send comments to Mr. Carey F. Smith, Dayton Beach City Manager, P.O. Box 2451, Daytona Beach, Florida 32115.
Florida | Dayton Beach Shores (City), Volusia County | Atlantic Ocean | Approximately 400 feet east of the intersection of Ridge Road and Atlantic Avenue South | None | *10
|  |  | Approximately 500 feet east of the intersection of Van Avenue and Atlantic Avenue South | *11 | *12
|  | Intracoastal Waterway | Approximately 400 feet west of the intersection of Richards Lane and Peninsula Drive South | *7 | *6
|  |  | At the intersection of Demott Street and Peninsula Drive South | None | *6
Maps available for inspection at the City of Daytona Beach Shores City Hall, Building Division, 3050 South Atlantic Avenue, Daytona Beach, Florida.
Send comments to Ms. Nancy Farr, Dayton Beach Shores City Manager, 3050 South Atlantic Avenue, Daytona Beach Shores, Florida 32118.
Florida | Edgewater (City), Volusia County | Indian River North/Intracoastal Waterway | Just on the easterly side of the intersection of Boston Road and Riverside Drive | *8 | *7
|  |  | Approximately 100 feet east of the intersection of Knapp Avenue and Riverside Drive South | *8 | *9
Maps available for inspection at the City of Edgewater Planning Department, 104 North Riverside Drive, Edgewater, Florida.
Send comments to The Honorable Randy Allmon, Mayor of the City of Edgewater, P.O. Box 100, Edgewater, Florida 32132-0100.
Florida | Holly Hill (City), Volusia County | Intracoastal Waterway | At the intersection of High Street and Burleigh Avenue | None | *6
|  |  | Approximately 100 feet east of the intersection of 15th Place and Riverside Drive | *6 | *7
Maps available for inspection at the Holly Hill City Hall, 1065 Ridgewood Avenue, Holly Hill, Florida.
Send comments to The Honorable William Arthur, Mayor of the City of Holly Hill, 1065 Ridgewood Avenue, Holly Hill, Florida 32117.
Florida | New Smyrna Beach (City), Volusia County | Atlantic Ocean | Approximately 400 feet east of the intersection of 3rd Avenue East and Atlantic Avenue South | None | *10
|  |  | Approximately 0.8 mile north of the intersection of Peninsula Avenue North and Ocean Drive | None | *12
|  | Indian River North/Intracoastal Waterway | At the intersection of Ocean Drive and Peninsula Avenue North | None | *7
|  |  | Approximately 1,500 feet east of the intersection of Conrad Drive and Redland Drive | *7 | *9
Maps available for inspection at the New Smyrna City Hall, 210 Sams Avenue, New Smyrna Beach, Florida.
Send comments to The Honorable James Vandergrifft, Mayor of the City of New Smyrna Beach, 210 Sams Avenue, New Smyrna Beach, Florida 32117.
Florida | Oak Hill (City), Volusia County | Atlantic Ocean | Approximately 120 feet east of the intersection of State Route A1A and Volusia County/Oak Hill corporate limits | None | *11
|  |  | Approximately 500 feet from the southern Volusia County/Oak Hill corporate limits along State Route A1A north, then approximately 350 feet east | *11 | *12
|  | Indian River North/Intracoastal Waterway | Approximately 1,500 feet southwest of the intersection of South Street and State Route A1A in Volusia County | None | *6
|  |  | Approximately 500 feet east of the intersection of Cheyenne Drive and Golden Bay Boulevard | *6 | *8
Maps available for inspection at the Oak Hill City Hall, 234 South U.S. Highway 1, Oak Hill, Florida.
Send comments to The Honorable Donna Bennett, Mayor of the City of Oak Hill, 234 South U.S. Highway 1, Oak Hill, Florida 32759.
Florida | Ponce Inlet (Town), Volusia County | Atlantic Ocean | Approximately 300 feet east of the intersection of Old Carriage Road and Atlantic Avenue South | *9 | *10
|  |  | Approximately 750 feet east of the Beach Street and Atlantic Avenue South intersection | *11 | *12
|  | Intracoastal Waterway | At the intersection of Maura Court and Peninsula Drive South | None | *7
|  |  | Approximately 2,500 feet south of the intersection of Beach and Sailfish Drive | *8 | *9
Maps available for inspection at the Ponce Inlet Town Hall, 4680 South Peninsula Drive, Ponce Inlet, Florida.
Send comments to The Honorable Chuck Strott, Mayor of the Town of Ponce Inlet, 4680 South Peninsula Drive, Ponce Inlet, Florida 32127.
Florida | Port Orange (City), Volusia County | B-19 Canal | Approximately 300 feet upstream of confluence with Spruce Creek | *6 | *5
|  |  | Approximately 150 feet downstream of the confluence of B-19 Canal Tributary No. 5 with B-19 Canal | *28 | *29
|  | B-19 Canal | At the confluence with B-19 Canal | *26 | *28
|  | Tributary No. 2 | Approximately 1,500 feet upstream of confluence with B-19 Canal | *27 | *28
|  | Intracoastal Waterway | At the intersection of Riverview Lane and Simpson Avenue | *7 | *6
|  |  | At the intersection of Portobello Drive and Riverside Drive | *8 | *9
Maps available for inspection at the Port Orange City Hall, 1000 City Center Circle, Port Orange, Florida.
Send comments to The Honorable Allen Green, Mayor of the City of Port Orange, 1000 City Center Circle, Port Orange, Florida 32119.
Florida | Ormond Beach (City), Volusia County | Atlantic Ocean | Approximately 350 feet east of the intersection of Ann Rustin Drive and Ocean Shore Boulevard | *9 | *10
|  |  | Approximately 600 feet east of the intersection of Harvard Drive and Florence Street | *11 | *12
|  | Halifax River/Intracoastal Waterway | At the intersection of John Anderson Drive and St. Mark Circle | None | *4
|  |  | Approximately 100 feet east of the intersection of Seville Street and Beach Street South | *5 | *7
|  |  | Approximately 200 feet west of intersection of John Anderson Drive and Buckingham Drive | *5 | *4
|  | Tomoka River | Approximately 1.1 miles downstream of confluence of Thompson Creek | *4 | *5
|  |  | Approximately 1,500 feet upstream of State Route 40 | *7 | *10
|  | Misner Branch | At confluence with Tomoka River | *6 | *8
|  |  | Approximately 100 feet upstream of Handy Avenue | None | *15
|  | Little Tomoka River | At confluence with Tomoka River | *7 | *10
|  |  | At State Route 40 | None | *28
|  | Groover Branch | At confluence with Tomoka River approximately 1,300 feet downstream of Tymber Run Road | None | *20
|  |  | Approximately 340 feet upstream of Tymber Creek Road North | *7 | *10
|  | Thompson Creek | Approximatey 470 feet downstream of U.S. Route 1 North | *5 | *7
|  |  | Approximately 0.45 mile upstream of Tomoka Avenue | None | *8
Maps available for inspection at the Ormond Beach City Hall, Planning Department, 22 South Beach Street, Room 104, Ormond Beach, Florida.
Send comments to The Honorable David Hood, Mayor of the City of Ormond Beach, P.O. Box 277, Ormond Beach, Florida 32175-0277.
Florida | South Daytona (City), Volusia County | Intracoastal Waterway | At the intersection of Sea Isle Circle and Palmetto Avenue | *7 | *6
|  |  | Approximately 600 feet east of the intersection of Venture Drive and U.S. Route 1 (Ridgewood Avenue South) | *9 | *8
|  |  | Approximately 125 feet southwest of the intersection of Reed Canal Road and Ridgewood Avenue South/U.S. Route 1 | None | *6
Maps available for inspection at the South Daytona City Hall, 1672 Ridgewood Avenue, South Daytona, Florida.
Send comments to The Honorable Joseph Piggotte, Mayor of the City of South Daytona, P.O. Box 214960, South Daytona, Florida 32121.
Florida | Volusia County (Unincorporated Areas) | Atlantic Ocean | Approximately 350 feet east of the intersection of Plaza Drive and Ocean Shore Boulevard None | None | *10
|  |  | Approximately 300 feet southeast of the intersection of Kingfish Avenue and Atlantic Avenue South | None | *12
|  |  | Approximately 500 feet southeast of intersection of Ocean Shore Boulevard and northern county boundary | *13 | *12 *12
|  | Halifax River/Intracoastal Waterway | Approximately 100 feet southwest of the intersection of John Anderson Drive and Highridge Road | None | *4
|  |  | Approximately 2,750 feet west of intersection of Cardinal Boulevard and Major Street | *7 | *9
|  | Indian River North/Intracoastal Waterway | Approximately 1,000 feet east of intersection of Pelican Place and Riverside Drive | *9 | *7
|  |  | Approximately 50 feet west of the intersection of Trout Avenue and Atlantic Avenue | *7 | *6
|  | Groover Branch | Approximately 1,250 feet upstream of Tymber Run | None | *10
|  |  | Approximately 340 feet upstream of Tymber Creek Road North | None | *20
|  | Tomoka River | Approximately 1.17 miles downstream of confluence of Thompson Creek | *4 | *5
|  |  | Approximately 0.96 mile upstream of U.S. Route 92 | *26 | *25
|  | Little Tomoka River | At confluence with Tomoka River, approximately 1,850 feet downstream of Main Trail Road | None | *10
|  |  | Approximately 200 feet upstream of State Route 40 | None | *30
|  | B-19 Canal | At the confluence of B-19 Canal Tributary No. 2 | *26 | *28
|  |  | Approximately 550 feet northeast of the confluence of B-19 Canal Tributary No. 3 with B-19 Canal | *28 | *29
|  | Crescent Lake | Approximately 6,000 feet northeast of the intersection of Ducan Road and Raulerson Road No. 7 | None | *7
|  |  | Approximately 2.84 miles northeast of the intersection of Ducan Road and Raulerson Road No. 7 | None | *7
|  | B-19 Canal Tributary No. 2 | Approximately 50 feet upstream of confluence with B-19 Canal | *26 | *28
|  |  | Approximately 650 feet upstream of confluence with B-19 Canal | *27 | *28
Maps available for inspection at the Volusia County Emergency Operations Center, 49 Keyton Drive, Daytona, Florida.
Send comments to Mr. Lawrence Arrington, Volusia County Manager, 123 West Indiana Avenue, Deland, Florida 32720-4612.
Illinois | LaSalle (City), LaSalle County | Illinois River | Approximately 0.82 mile downstream of State Route 351 | *462 | *463
|  |  | Approximately 0.95 mile upstream of Illinois Central Railroad | *463 | *465
Maps available for inspection at the LaSalle City Hall, 745 Second Street, LaSalle, Illinois.
Send comments to The Honorable Arthur Washkowiak, Mayor of the City of LaSalle, 745 Second Street, LaSalle, Illinois 61301.
Illinois | Marseilles (City), LaSalle County | Illinois River | Approximately 4,200 feet downstream of Main Street | None | *479
|  |  | Approximately 15,500 feet upstream of Main Street | None | *492
Maps available for inspection at the Marseilles City Hall, 209 Lincoln Street, Marseilles, Illinois.
Send comments to The Honorable John C. Knudson, Mayor of the City of Marseilles, 209 Lincoln Street, Marseilles, Illinois 61341.
Illinois | Millington (Village), LaSalle County | Fox River | Approximately 1.6 miles upstream of Interstate 80 | *555 | *553
|  |  | Approximately 400 feet upstream of confluence of Clear Creek | *557 | *555
|  | Clear Creek | At confluence with the Fox River | *557 | *556
|  |  | At the Burlington Northern Railroad | *557 | *556
Maps available for inspection at the Millington Village Hall, Walnut Street, Millington, Illinois.
Send comments to Ms. Janet Blue, Millington Village President, Walnut Street, P.O. Box 371, Millington, Illinois 60537.
Illinois | North Utica (Village), LaSalle County | Clark Run Creek | Approximately 0.46 mile downstream of crossing of the abandoned Illinois and Michigan Canal | *465 | *466
|  |  | Approximately 700 feet downstream of confluence of the abandoned Illinois and Michigan Canal | *465 | *466
|  | Illinois River | Approximately 0.38 mile downstream of State Route 178 | *464 | *466
|  |  | Approximately 0.55 mile upstream of State Route 178 | *465 | *466
Maps available for inspection at the North Utica Village Hall, 245 Johnson Street, Utica, Illinois.
Send comments to Mr. Joseph M. Carey, North Utica Village President, 245 Johnson Street, Utica, Illinois 61373.
Illinois | Ottawa (City), LaSalle County | Goose Creek | Approximately 400 feet downstream of Champlain Street | *476 | *472
|  |  | Approximately 150 feet upstream of Champlain Street | *476 | *475
|  | Illinois River | Approximately 0.4 mile downstream of Burlington Northern Railroad | *472 | *471
|  |  | Approximately 4,400 feet upstream of confluence of Fox River | None | *473
|  | Fox River | Approximately 500 feet upstream of confluence with the Illinois River | *473 | *472
|  |  | Approximately 0.98 mile upstream of confluence of Goose Creek | None | *474
Maps available for inspection at the Ottawa City Hall, 301 West Madison Street, Ottawa, Illinois.
Send comments to The Honorable Robert M. Eschbach, Mayor of the City of Ottawa, Ottawa City Hall, 301 West Madison Street, Ottawa, Illinois 61350.
Illinois | Peru (City), LaSalle County | Illinois River | Approximately 7,350 feet downstream of State Route 251 | *461 | *462
|  |  | A point approximately 2,600 feet upstream of State Route 251 | *462 | *463
Maps available for inspection at the Peru City Clerk's Office, 1727 Fourth Street, Peru, Illinois.
Send comments to The Honorable Donald L. Baker, Mayor of the City of Peru, P.O. Box 299, Peru, Illinois 61354.
Illinois | Seneca (Village), LaSalle County | Illinois River | Approximately 1.1 miles downstream of South Main Street (State Route 170) | None | *94
|  |  | Approximately 400 feet upstream of upstream county boundary | *498 | *497
|  | Rat Run | Approximately 2,750 feet downstream of Main Street (State Route 170) | *492 | *494
|  |  | Approximately 1,000 feet downstream of Main Street (State Route 170) | *493 | *494
Maps available for inspection at the Seneca Village Hall, 116 West Williams Street, Seneca, Illinois.
Send comments to The Honorable David Yeck, Mayor of the Village of Seneca, 116 West Williams Street, Seneca, Illinois 61360.
Illinois | Sheridan (Village), LaSalle County | Fox River | At the downstream corporate limits | None | *542
|  |  | Approximately 1,725 feet upstream of North 41st Road | None | *545
Maps available for inspection at the Sheridan Village Hall, Engineer's Office, Robinson Street, Sheridan, Illinois.
Send comments to The Honorable James D. Allen, Mayor of the Village of Sheridan, P.O. Box 222, Sheridan, Illinois 60551.
Illinois | Winnebago County (Unincorporated Areas) | Manning Creek | At confluence with Kishwaukee River | None | *729
|  |  | Approximately 0.52 mile upstream of Lyford Road | None | *857
|  | Unnamed Tributary to South Kent Creek | Just downstream of U.S. Route 20 | None | *765
|  |  | Approximately 1,600 feet upstream of Frontage Road | None | *782
|  | Kishwaukee River | Just upstream of Interstate 90 | None | *729
|  |  | Approximately 1,400 feet upstream of Interstate 90 | None | *729
Maps available for inspection at the Winnebago County Highway Department, 424 North Springfield Road, Rockford, Illinois.
Send comments to Ms. Christine Cohn, Chairman of the Winnebago County Board of Supervisors, 404 Elm Street, Rockford, Illinois 61101.
New York | Prospect (Village), Oneida County | West Canada Creek | At Military Road | None | *1,078
|  |  | Approximately 2,030 feet upstream of Military Road | None | *1,127
Maps available for inspection at the Prospect Village Office, 915 Trenton Falls Street, Prospect, New York.
Send comments to The Honorable Donald Bishop, Mayor of the Village of Prospect, P.O. Box 159, Prospect, New York 13435.
Ohio | Lucas County (Unincorporated Areas) | Drennan Ditch | Approximately 1,260 feet downstream of Private Drive | *629 | *634
|  |  | At Private Drive | *632 | *634
Maps available for inspection at the Lucas County Engineering Office, One Government Center, Suite 870, Toledo, Ohio.
Send comments to Ms. Sandy Isenburg, President of the Lucas County Board of Commissioners, One Government Center, Suite 800, Toledo, Ohio 43604.
Pennsylvania | Allen (Township), Northampton County | Lehigh River | Approximately 1.03 miles upstream of State Route 329 | *302 | *304
|  |  | Approximately 1.02 miles downstream of State Route 145 | *323 | *321
|  | Catasauqua Creek | A point approximately 0.52 mile downstream of dam | None | *303
|  |  | Approximately 150 feet upstream of Private Road | None | *326
|  | Hokendauqua Creek | Approximately 0.4 mile downstream of State Route 329 | None | *321
|  |  | Approximately 1,320 feet upstream of State Route 329 | None | *329
Maps available for inspection at the Allen Township Hall, 4714 Indian Trail Road, Northampton, Pennsylvania.
Send comments to Mr. Paul Balliet, Chairman of the Township of Allen Board of Supervisors, 4714 Indian Trail Road, Northampton, Pennsylvania 18067.
Pennsylvania | Bethelehem (City), Northampton County | Lehigh River | Just downstream of Freemansburg Highway bridge | *224 | *223
|  |  | Approximately 0.18 mile upstream of CONRAIL Railroad | *239 | *236
|  | Saucon Creek | At the confluence of Lehigh River | *226 | *224
|  |  | At the centerline of Friedensville Road | *276 | *277
Maps available for inspection at the Bethlehem City Hall, Planning Office, 10 East Church Street, Bethlehem, Pennsylvania.
Send comments to The Honorable Donald T. Cunningham, Jr., Mayor of the City of Bethlehem, 10 East Church Street, Bethlehem, Pennsylvania 18018.
Pennsylvania | Bethlehem (Township), Northampton County | Lehigh River | Approximately 1.97 miles upstream of Chain Dam | *209 | *210
|  |  | Approximately 0.8 mile downstream of Freemansburg Highway bridge | *220 | *221
Maps available for inspection at the Bethlehem Township Municipal Building, 4225 Easton Avenue, Bethlehem, Pennsylvania.
Send comments to Mr. Jeff J. Bartlett, Acting Bethlehem Township Manager, 4225 Easton Avenue, Bethlehem, Pennsylvania 18020.
Pennsylvania | Dingman (Township), Pike County | Delaware River | Approximately 3.0 miles downstream of U.S. Route 206 | None | *391
|  |  | Approximately 1.0 mile upstream of U.S. Route 206 | None | *403
Maps available for inspection at the Dingman Township Hall, 118 Fisher Lane, Milford, Pennsylvania.
Send comments to Mr. Dennis Brink, Chairman of the Township of Dingman Board of Supervisors, 118 Fisher Lane, Milford, Pennsylvania 18337.
Pennsylvania | East Allen (Township), Northampton County | Monocacy Creek | Downstream of Mill Street | None | *406
|  |  | Approximately 1,000 feet downstream of Mill Street | None | *406
Maps available for inspection at the East Allen Township Offices, 5344 Nor-Bath Boulevard, Northampton, Pennsylvania.
Send comments to Mr. Roger Unangst, Chairman of the Township of East Allen Board of Supervisors, 5344 Nor-Bath Boulevard, Northampton, Pennsylvania 18067.
Pennsylvania | Easton (City), Northampton County | Lehigh River | Approximately 528 feet downstream of Easton Dam | *192 | *195
|  |  | Approximately 1.55 miles upstream of Chain Dam | *209 | *208
|  | Delaware River | Approximately 1 mile upstream of Interstate 78 | *188 | *191
|  |  | Approximately 1.23 miles upstream of confluence with Bushkill Creek | *198 | *199
Maps available for inspection at the Easton City Hall, 1 South Third Street, Easton, Pennsylvania.
Send comments to The Honorable Thomas F. Goldsmith, Mayor of the City of Easton, 1 South Third Street, Easton, Pennsylvania 18042.
Pennsylvania | Forks (Township), Northampton County | Delaware River | Approximately 1.16 miles upstream of confluence with Bushkill Creek | *198 | *199
|  |  | Approximately 0.54 mile downstream of confluence with Mud Run | *207 | *206
Maps available for inspection at the Forks Township Hall, 1606 Sullivan Trail, Easton, Pennsylvania.
Send comments to Mr. David Hoff, Chairman of the Township of Forks Board of Supervisors, 1606 Sullivan Trail, Easton, Pennsylvania 18040.
Pennsylvania | Freemansburg (Borough), Northampton County | Lehigh River | Approximately 420 feet upstream of confluence with Nancy Creek | *221 | *222
|  |  | Approximately 1.26 miles downstream of confluence with Monocacy Creek | *229 | *226
Maps available for inspection at the Freemansburg Borough Hall, 600 Monroe Street, Freemansburg, Pennsylvania.
Send comments to The Honorable Gerald Yob, Mayor of the Borough of Freemansburg, 600 Monroe Street, Freemansburg, Pennsylvania 18017.
Pennsylvania | Glendon (Borough), Northampton County | Lehigh River | Approximately 0.31 mile downstream of Glendon Parkway | *194 | *195
|  |  | Approximately 0.27 mile upstream of Chain Dam | *204 | *203
Maps available for inspection at the Glendon Borough Hall, 24 Franklin Street, Easton, Pennsylvania.
Send comments to The Honorable Charles Seip, Mayor of the Borough of Glendon, 24 Franklin Street, Easton, Pennsylvania 18042.
Pennsylvania | Greene (Township), Pike County | Lake Wallenpaupack | Entire shoreline within community | None | *1,191
Maps available for inspection at the Greene Township Building, Brink Hill Road, Greentown, Pennsylvania.
Send comments to Ms. Maryann Hubbard, Chairman of the Township of Greene Board of Supervisors, P.O. Box 243, Greentown, Pennsylvania 18426.
Pennsylvania | Hellertown (Borough), Northampton County | Saucon Creek | Approximately 1,435 feet downstream of confluence of Black River | *259 | *260
|  |  | Approximately 540 feet downstream of Meadows Road | *298 | *296
Maps available for inspection at the Hellertown Borough Municipal Building, 685 Main Street, Hellertown, Pennsylvania.
Send comments to Mr. James Sigworth, Hellertown Borough Manager, 685 Main Street, P.O. Box A, Hellertown, Pennsylvania 18055—0222.
Pennsylvania | Lehigh (Township), Northampton County | Lehigh River | Approximately 1.02 miles downstream of State Route 145 | *322 | *321
|  |  | At the county boundary | *387 | *388
Maps available for inspection at the Lehigh Township Municipal Building, 1069 Municipal Road, Walnutport, Pennsylvania.
Send comments to Mr. Richard Demko, Chairman of the Lehigh Township Board of Supervisors, 1609 Municipal Road, Walnutport, Pennsylvania 18088.
Pennsylvania | Lehman (Township), Pike County | Delaware River | Approximately 0.51 mile upstream of confluence of Bushkill Creek | None | *349
|  |  | Approximately 1.4 miles upstream of confluence of Bushkill Creek | None | *354
Maps available for inspection at the Lehman Zoning Office, Municipal Road, Bushkill, Pennsylvania.
Send comments to Mr. Walter Bensky, Chairman of the Lehman Township Board of Supervisors, RR 4, Box 4000, Bushkill, Pennsylvania 18324.
Pennsylvania | Lower Mount Bethel (Township), Northampton County | Delaware River | Approximately 0.44 mile downstream of confluence with Mud Run | *206 | *207
|  |  | Just downstream of the Riverton-Belvidere Highway bridge | *256 | *255
Maps available for inspection at the Lower Mount Bethel Township Hall, 6984 South Delaware Drive, Martins Creek, Pennsylvania.
Send comments to Mr. Anthony Gasparetti, Chairman of the Lower Mount Bethel Township Board of Supervisors, P.O. Box 257, Martins Creek, Pennsylvania 18063.
Pennsylvania | Lower Saucon (Township), Northampton County | Lehigh River | Approximately 1.61 miles upstream of Chain Dam | *208 | *209
|  |  | Just upstream of Freemansburg Highway bridge | *222 | *223
|  | Saucon Creek | Approximately 50 feet upstream of Friedensville Road | *277 | *278
|  |  | At the county boundary | *333 | *337
Maps available for inspection at the Lower Saucon Township Hall, 3700 Old Philadelphia Pike, Bethlehem, Pennsylvania.
Send comments to Mr. Jeffrey Zettlemoyer, Assistant Lower Saucon Township Manager, 3700 Old Philadelphia Pike, Bethlehem, Pennsylvania 18015.
Pennsylvania | Matamoras (Borough), Pike County | Delaware River | Approximately 355 feet downstream of State Route 84 | *434 | *426
|  |  | Approximately 3,020 feet upstream of Pennsylvania Avenue | *443 | *440
Maps available for inspection at the Matamoras Borough Hall, Avenue I, Matamoras, Pennsylvania.
Send comments to Mr. David Hazen, Matamoras Borough President, P.O. Box 207, Matamoras, Pennsylvania 18336.
Pennsylvania | Milford (Borough), Pike County | Delaware River | Approximately 1.0 mile upstream of U.S. Route 206 | None | *403
|  |  | Approximately 1.5 miles upstream of U.S. Route 206 | None | *405
Maps available for inspection at the Milford Borough Office, 111 West Catherine Street, Milford, Pennsylvania.
Send comments to Mr. Matthew Osperberg, President of the Borough of Milford, 111 West Catherine Street, Milford, Pennsylvania 18337.
Pennsylvania | Milford (Township), Pike County | Delaware River | Approximately 1.5 miles upstream of U.S. Route 206 | None | *405
|  |  | Approximately 2.7 miles upstream of U.S. Route 206 | None | *409
Maps available for inspection at the Milford Township Office, 590 Route 6 and 209, Milford, Pennsylvania.
Send comments to Mr. Donald Quick, Chairman of the Township of Milford Board of Supervisors, P.O. Box 366, Milford, Pennsylvania 18337.
Pennsylvania | North Catasauqua (Borough), Northampton County | Lehigh River | At the county boundary | *280 | *281
|  |  | Approximately 1,900 feet downstream of confluence with Dry Run | *285 | *287
Maps available for inspection at the North Catasauqua Borough Hall, 1066 Fourth Street, North Catasauqua, Pennsylvania.
Send comments to Mr. Joseph Keglovits, President of the Borough of North Catasauqua, 1066 Fourth Street, Catasauqua, Pennsylvania 18032.
Pennsylvania | North Whitehall (Township), Lehigh County | Fells Creek | At the confluence with the Lehigh River | *318 | *315
|  |  | A point approximately 750 feet upstream of Neffs-Laurys Road | None | *546
Maps available for inspection at the North Whitehall Township Municipal Building, 3256 Levans Road, Coplay, Pennsylvania.
Send comments to Ms. Janet Talotta, Chairman of the North Whitehall Township Board of Supervisors, 3256 Levans Road, Coplay, Pennsylvania 18037.
Pennsylvania | Northampton (Borough), Northampton County | Lehigh River | Approximately 1,900 feet downstream of confluence with Dry Run | *285 | *287
|  |  | Approximately 1.16 miles upstream of Route 329 | *302 | *305
Maps available for inspection at the Northampton Borough Municipal Office, 1401 Laubach Avenue, Northampton, Pennsylvania.
Send comments to Mr. Charles Bodnar, President of the Northampton Borough Council, 1401 Laubach Avenue, P.O. Box 70, Northampton, Pennsylvania 18067—0070.
Pennsylvania | Palmer (Township), Northampton County | Lehigh River | Approximately 0.63 mile downstream of Chain Dam | *202 | *195
|  |  | Approximately 1.71 miles upstream of Chain Dam | *210 | *209
Maps available for inspection at the Palmer Township Hall, 3 Weller Place, Palmer, Pennsylvania.
Send comments to Mr. Jeffrey Young, Chairman of the Palmer Township Board of Supervisors, 3 Weller Place, P.O. Box 3039, Palmer, Pennsylvania 18043.
Pennsylvania | Palmyra (Township), Pike County | Lake Wallenpaupack | Entire area within community | None | *1,191
|  | Lackawaxen River | Approximately 100 feet upstream of Kimbles Road | None | *835
|  |  | Approximately 3.4 miles upstream of Kimbles Road | None | *884
|  | Wallenpaupack Creek | Approximately 0.7 mile downstream of U.S. Route 6 | None | *1,040
|  |  | Approximately 1,500 feet upstream of U.S. Route 6 | None | *1,138
Maps available for inspection at the Palmyra Township Building, Gumbletown Road, Buehler Lane, Paupack, Pennsylvania.
Send comments to Mr. Tom Simmons, Chairman of the Palmyra Township Board of Supervisors, HRC, Box 15-C, Paupack, Pennsylvania 18451.
Pennsylvania | Perkasie (Borough), Bucks County | East Branch Perkiomen Creek | At downstream corporate limits | *308 | *307
|  |  | Approximately 620 feet upstream of East Callowhill Road | *318 | *317
Maps available for inspection at the Perkasie Borough Office, 311 South 9th Street, Perkasie, Pennsylvania.
Send comments to Mr. John L. Cornelius, Perkasie Borough Manager, P.O. Box 275, Perkasie, Pennsylvania 18944.
Pennsylvania | Plainfield (Township), Northampton County | West Branch Little Bushkill Creek | Approximately 460 feet downstream of State Route 512 | None | *682
|  |  | Approximately 300 feet downstream of Male Street | None | *689
Maps available for inspection at the Plainfield Township Hall, 6292 Sullivan Trail, Nazareth, Pennsylvania.
Send comments to Mr. Randy Lieberman, Chairman of the Township of Plainfield Board of Supervisors, 6292 Sullivan Trail, Nazareth, Pennsylvania 18064.
Pennsylvania | Portland (Borough), Northampton County | Delaware River | Approximately 0.36 mile downstream of confluence with Jacoby Creek | *293 | *294
|  |  | Approximately 0.60 mile upstream of confluence with Jacoby Creek | *298 | *299
Maps available for inspection at the Portland Borough Building, 1 Division Street, Portland, Pennsylvania.
Send comments to The Honorable Kay Bucci, Mayor of the Borough of Portland, P.O. Box 295, Portland, Pennsylvania 18351.
Pennsylvania | Sellersville (Borough), Bucks County | East Branch Perkiomen Creek | Approximately 150 feet downstream of CONRAIL bridge | *302 | *303
|  |  | At upstream corporate limits | *308 | *307
Maps available for inspection at the Sellersville Borough Hall, 140 East Church Street, Sellersville, Pennsylvania.
Send comments to The Honorable Joseph F. Hufnagle, Sr., Mayor of the Borough of Sellersville, 140 East Church Street, Sellersville, Pennsylvania 18960.
Pennsylvania | Shohola (Township), Pike County | Delaware River | Approximately 1,200 feet downstream of Pond Eddy Bridge | None | *527
|  |  | Approximately 6.8 miles upstream of Pond Eddy | None | *578
Maps available for inspection at the Shohola Township Hall, 159 Twin Lakes Road, Shohola, Pennsylvania.
Send comments to Mr. George Fluhr, Chairman of the Township of Shohola Board of Supervisors, 159 Twin Lakes Road, Shohola, Pennsylvania 18458.
Pennsylvania | Upper Mt. Bethel (Township), Northampton County | Delaware River | Just downstream of Riverton-Belvidere Highway bridge | *256 | *255
|  |  | Approximately 110 feet downstream of the county boundary | *314 | *313
Maps available for inspection at the Mt. Bethel Township Hall, 387 Ye Olde Highway, Mt. Bethel, Pennsylvania.
Send comments to Mr. Lewis L. Donatelli, Sr., Chairman of the Upper Mt. Bethel Township Board of Supervisors, 387 Ye Olde Highway, Mt. Bethel, Pennsylvania 18343.
Pennsylvania | Walnutport (Borough), Northampton County | Lehigh River | Approximately 1.05 miles downstream of Route 946 (Main Street) | *356 | *358
|  |  | Approximately 0.4 mile upstream of Route 946 (Main Street) | *366 | *367
Maps available for inspection at the Walnutport Borough Offices, 417 Lincoln Avenue, Walnutport, Pennsylvania.
Send comments to Mr. William Turk, President of the Walnutport Borough Council, 120 Lincoln Avenue, Walnutport, Pennsylvania 18068.
Pennsylvania | West Easton (Borough), Northampton County | Lehigh River | Approximately 0.88 mile downstream of Glendon Parkway | *192 | *195
|  |  | Approximately 50 feet downstream side of 25th Street | *197 | *195
Maps available for inspection at the West Easton Borough Hall, 237 7th Street, West Easton, Pennsylvania.
Send comments to Mr. Carl Persion, West Easton Borough Council President, 237 7th Street, West Easton, Pennsylvania 18042.
Pennsylvania | West Rockhill (Township), Bucks County | East Branch Perkiomen Creek | At the upstream side of CountyLine Road | *275 | *276
|  |  | Approximately 550 feet downstream of CONRAIL bridge | *302 | *301
Maps available for inspection at the West Rockhill Township Hall, 1028 Ridge Road, Sellersville, Pennsylvania.
Send comments to Mr. Richard Derstine, Chairman of the Township of West Rockhill Board of Supervisors, 1028 Ridge Road, Sellersville, Pennsylvania 18960.
Pennsylvania | Westfall (Township), Pike County | Delaware River | Approximately 1.4 miles downstream of confluence of Cummings Creek | *408 | *409
|  |  | Approximately 1,050 feet downstream of Pond Eddy Bridge | None | *527
Maps available for inspection at the Westfall Township Office, 102 LaBarr Lane, Matamoras, Pennsylvania.
Send comments to Mr. Richard Maggs, Chairman of the Township of Westfall Board of Supervisors, Box 247, Matamoras, Pennsylvania.
Pennsylvania | Williams (Township), Northampton County | Lehigh River | Approximately 0.27 mile upstream of Chain Dam | *204 | *203
|  |  | Approximately 1.61 miles upstream of Chain Dam | *208 | *209
|  | Delaware River | At the county boundary | *163 | *165
|  |  | Approximately 1 mile upstream of Interstate 78 | *186 | *191
Maps available for inspection at the Williams Township Municipal Building, 655 Cider Press Road, Easton, Pennsylvania.
Send comments to Mr. Jeffery Marsh, Williams Township Manager, 655 Cider Press Road, Easton, Pennsylvania 18042.
Pennsylvania | Wilson (Borough), Northampton County | Lehigh River | Approximately 500 feet downstream of 25th Street | *197 | *195
|  |  | Approximately 950 feet upstream of 25th Street | *197 | *195
Maps available for inspection at the Wilson Borough Hall, 2040 Hay Terrace, Easton, Pennsylvania.
Send comments to Mr. David S. Perruso, President of the Wilson Borough Council, 2040 Hay Terrace, Easton, Pennsylvania 18042.
South Carolina | Columbia (City), Richland County | Gills Creek | Upstream side of State Route 48 (Bluff Road | *140 | *138
|  |  | At the Southern Railway Bridge | *140 | *139
|  | Saluda River | At the confluence with the Broad and Congaree Rivers | *158 | *152
|  |  | Approximately 850 feet upstream of USGS Gage No. 2-1690 | *171 | *170
|  | Rocky Branch | Approximately 200 feet downstream of Olympia Avenue | *152 | *148
|  |  | Approximately 460 feet upstream of Olympia Avenue | *152 | *151
|  | Congaree River | At the downstream side of Southern Railway bridge | *154 | *149
|  |  | At confluence of Broad and Saluda Rivers | *158 | *152
Maps available for inspection at the Columbia City Hall, 1225 Laurel Street, Columbia, South Carolina.
Send comments to The Honorable Robert Coble, Mayor of the City of Columbia, 1737 Main Street, Columbia, South Carolina 29201.
South Carolina | Cayce (City), Lexington County | Congaree Creek | Approximately 1,130 feet upstream of the confluence with the Congaree River | *139 | *135
|  |  | Approximately 1,550 feet upstream of Charleston Highway (U.S. Highway 321) | *142 | *141
|  | Six Mile Creek | At the confluence with Congaree Creek | *142 | *140
|  |  | Approximately 675 feet downstream of the confluence of Tributary SM-2 | *142 | *141
|  | Congaree River | Approximately 100 feet upstream of the confluence of Congaree Creek | *139 | *135
|  |  | Approximately 1,250 feet upstream of Blossom Street | *156 | *150
Maps available for inspection at the Cayce City Hall, 1800 12th Street Extension, Cayce, South Carolina.
Send comments to The Honorable Avery B. Wilkerson, Jr., Mayor of the City of Cayce, P.O. Box 2004, Cayce, South Carolina 29171-2004.
South Carolina | Lexington County (Unincorporated Areas) | Congaree Creek | At the confluence with the Congaree River | *138 | *135
|  |  | Approximately 1,550 feet upstream of Charleston Highway (U.S. Highway 321) | *142 | *141
|  | Six Mile Creek | Approximately 115 feet upstream of the CSX Transportation Bridge | *142 | *140
|  |  | Approximately 675 feet downstream of the confluence of Tributary SM-2 | *142 | *141
|  | Saluda River | At the confluence with Congaree and Broad Rivers | *158 | *152
|  |  | Approximately 1,300 feet upstream of the confluence of Double Branch | *174 | *173
|  | Congaree River: | At downstream county boundary | None | *128
|  |  | At confluence of Broad and Saluda Rivers | *158 | *152
Maps available for inspection at the Lexington County Planning Department, 212 South Lake Drive, Lexington, South Carolina.
Send comments to Mr. Johnny Jeffcoat, Chairman of the Lexington County Council, 212 South Lake Drive, Lexington, South Carolina 29072.
South Carolina | West Columbia (City), Lexington County | Congaree River | Approximately 1,250 feet upstream of Blossom Street | *156 | *150
|  |  | Downstream side of Jarvis Klapman Boulevard | *158 | *151
Maps available for inspection at the West Columbia City Hall, 1053 Center Street, West Columbia, South Carolina.
Send comments to The Honorable Wyman Mack Rish, Mayor of the City of West Columbia, 1053 Center Street, West Columbia, South Carolina 29169.
Virginia | Danville (City), Pittsylvania County | Apple Branch | At confluence with Dan River | None | *418
|  |  | Approximately 25 feet upstream of Northmont Boulevard | None | *535
|  | Dan River | At downstream corporate limits | *395 | *396
|  |  | Approximately 970 feet downstream of upstream corporate limits | *457 | *458
|  | Sandy Creek | At confluence with Dan River | *421 | *424
|  |  | At downstream side of U.S. Route 58 | *423 | *424
|  | Sandy River | At confluence with Dan River | *424 | *427
|  |  | Just downstream of old U.S. Route 58 | *426 | *427
|  | Pumpkin Creek | At confluence with Dan River | *4009 | *401
|  |  | 750 feet upstream of State Route 265 | *400 | *401
|  | Jackson Branch | At confluence with Dan River | *401 | *403
|  |  | Approximately 1,725 feet upstream of Goodyear Boulevard (Whitmell Street) | *402 | *403
|  | Fall Creek | At confluence with Dan River | *403 | *404
|  |  | 100 feet downstream of Halifax Street | *403 | *404
Maps available for inspection at the Department of Community Development, 427 Patton Street, Danville, Virginia.
Send comments to Mr. Lyle Lacy, Interim City Manager, P.O. Box 3300, Danville, Virginia 24543.
West Virginia | Moorefield (Town), Hardy County | Unnamed Ponding Area | Approximately 500 feet southwest of the intersection of U.S. Route 220 and Monroe Avenue | *805 | *804
|  | South Branch Potomac River | Unnamed tributary from downstream corporate limits to Spring Avenue | None | *798
Maps available for inspection at the Moorefield Town Hall, 206 Winchester Avenue, Moorefield, West Virginia.
Send comments to The Honorable Larry P. Snyder, Mayor of the Town of Moorefield, 206 Winchester Avenue, Moorefield, West Virginia 26836.

(Catalog of Federal Domestic Assistance No. 83.100, “Flood Insurance”)
Dated: May 16, 2000.
Michael J. Armstrong,
Associate Director for Mitigation.

[FR Doc. 00-14292 Filed 6-20-00; 8:45 am]

BILLING CODE 6718-04-P